DEPARTMENT OF COMMERCE

National Oceanic and Atmospheric Administration

[RIN 0648-XD965]

Administrative Officers Meeting

AGENCY: National Marine Fisheries Service (NMFS), National Oceanic and Atmospheric Administration (NOAA), Commerce.

ACTION: Notice of public meeting.

SUMMARY: The Gulf of Mexico Fishery Management Council (GMFMC) will host a meeting concurrently consisting of eight Regional Fishery Management Council (RFMC) Administrative Officers (AO) at the Council Coordination Committee (CCC) meeting in June 2015. The intent of this meeting is for the AO to discuss issues of relevance to the Councils, including: Performance evaluation processes and travel procedures, human resources services and Worker's Compensation process, insurance, cost principles and audit requirements.

DATES: The meeting will be held June 22-25, 2015. Registration for the meeting will begin at 2 p.m. on Monday June 22, 2015. The AO meeting will begin at 3:45 p.m. Tuesday, June 23, 2015 following the CCC Opening Remarks and updates on Budgets and the MSA Reauthorization, and recess at 5 p.m. or when business is complete. The AO meeting will reconvene at 8:30 a.m. on Wednesday, June 24, 2015 and recess at 5 p.m. or when business is complete. The AO meeting will reconvene on the final day at 8:30 a.m. on Thursday, June 25, 2015 and adjourn by 12 noon or when business is complete.

ADDRESSES:

Meeting address: The meeting will be held at the Marriott Beachside Hotel, 3841 North Roosevelt Boulevard, Key West, FL 33040; telephone: (305) 296-8100.

Council address: Gulf of Mexico Fishery Management Council, 2203 North Lois Avenue, Suite 1100, Tampa, FL 33607.

FOR FURTHER INFORMATION CONTACT: Cathy Readinger, Administrative Officer, Gulf of Mexico Fishery Management Council; telephone: (813) 348-1630; fax: (813) 348-1711; email: cathy.readinger@gulfcouncil.org.

SUPPLEMENTARY INFORMATION: The Magnuson-Stevens Fishery Conservation (MSA) and Management Reauthorization Act (MSRA) established the CCC by amending section 302 (16 U.S.C. 1852) of the MSA. The committee consists of the chairs, vice chairs, and executive directors of each of the eight Regional Fishery Management Councils authorized by the MSA or other Council members or staff. GMFMC will host this meeting and provide reports to the CCC for its information and discussion. All sessions are open to the public. NMFS or other Council items of discussion for each individual management committee agenda are as follows:

Agenda

Tuesday, June 23, 2015; 9:30 a.m.-3:45 p.m.; CCC Opening Session

• Welcome and Introductions

• Budget: 2016 Budget/Saltonstall-Kennedy Grants, National Observer Funding Allocation, Joint Enforcement Agreements

• MSA Reauthorization: Legislative Updates, CCC Discussion on working group report and actions

Tuesday, June 23, 2015; 3:45 p.m.-5 p.m.

• Performance Evaluation Processes

• Travel Procedures

• Webinars In Lieu of Physical Meetings

• FLSA Updates by Each Council

• Human Resource Services

• Worker's Compensation Process

—Adjourn for the day

Wednesday, June 24, 2015; 8:30 a.m.-5 p.m.

• Statement of Financial Interest Process

• Affordable Care Act and the Councils

• Post-Retirement Medical Insurance

• Uniform Administrative Requirements, Cost Principles, and Audit Requirements

• Multi-Year Budget Exercise

• Federal Student Loan Forgiveness Program

• Contracting

—Adjourn for the day

Thursday, June 25, 2015; 8:30 a.m.-12 Noon

• Actuarial Reports on Council Benefits

• Council Pay Scales

• Update of Council Benefits

• DOC/NOAA Legal Assistance

—Meeting Adjourns

The timing and order in which agenda items are addressed may change as required to effectively address the issues. The AO will meet as late as necessary to complete scheduled business.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: May 26, 2015.
Emily H. Menashes,
Acting Director, Office of Sustainable Fisheries, National Marine Fisheries Service.

[FR Doc. 2015-13086 Filed 5-29-15; 8:45 am]

BILLING CODE 3510-22-P